DEPARTMENT OF AGRICULTURE

Agricultural Marketing Service

7 CFR Part 205

[Doc. No. AMS-NOP-15-0052; NOP-15-12PR]

RIN 0581-AD43

National Organic Program (NOP); Sunset 2016 Amendments to the National List; Correction

AGENCY: Agricultural Marketing Service, USDA.

ACTION: Proposed rule; correction.

SUMMARY: This document contains a correction to the proposed rule which was published on December 16, 2015 (80 FR 78150). In the proposed rule, the Regulatory Information Number (RIN) appears as RIN 0581-AD39. This number is incorrect. The correct number is 0581-AD43. This document corrects the proposed rule.

DATES: April 27, 2016.

FOR FURTHER INFORMATION CONTACT: Valerie Frances, Standards Division, email: valerie.frances@ams.usda.gov. Telephone: (202) 720-3252; Fax: (202) 260-9151.

Correction

In proposed rule FR Doc. 2015-31380, beginning at page 78150 of the issue of December 16, 2015, make the following corrections:

On page 78150, in the first column in the heading and the first line of the second column under the ADDRESSES caption, correct the RIN to read “0581-AD43”.

Dated: April 22, 2016.
Elanor Starmer,
Administrator, Agricultural Marketing Service.

[FR Doc. 2016-09838 Filed 4-26-16; 8:45 am]

BILLING CODE P